DEPARTMENT OF JUSTICE

Notice of Lodging of Consent Decree for Recovery of Past Response Costs Under Comprehensive Environmental Response, Compensation and Liability Act

Notice is hereby given that on September 11, 2000, a proposed Consent Decree in United States v. Midwest Farmers Cooperative, Civil Action No. C00-4098, was lodged with the United States District Court for the Northern District of Iowa.

In this action, the United States seeks recovery from Midwest Farmers Cooperative (“CO-OP”) of costs incurred by the United States in responding to releases of hazardous substances at the Farmers Mutual Cooperative Superfund Site located in Hospers, Iowa, pursuant to the Comprehensive Environmental Response, Compensation and Liability Act of 1980, 42 U.S.C. 9607, as amended.

Under the Consent Decree, Midwest will pay $165,000 to the EPA Hazardous Substance Superfund in reimbursement of approximately $350,000 in past response costs incurred by the United States, plus an additional $50,380.55 in interest.

The Department of Justice will receive, for a period of thirty (30) days from the date of this publication, comments relating to the Consent Decree. Comments should be addressed to the Assistant Attorney General of the Environmental and Natural Resources Division, Department of Justice, Washington, D.C. 20530, and should refer to United States v. Midwest Farmers Cooperative, DOJ # 90-11-3-06463.

The Consent Decree may be examined at the Office of the United States Attorney, 401 First Street SE, Cedar Rapids, Iowa, 52401; at EPA Region VII, 901 N. 5th Street, Kansas City, KS, 66101; or can be obtained by mail from the Consent Decree Library, P.O. Box 7611, United States Department of Justice, Washington, D.C., 20044-7611. In requesting a copy, please enclose a check of $6.25 (25 cents per page reproduction cost) payable to the Consent Decree Library.

Bruce S. Gelber,
Deputy Chief, Environmental Enforcement Section, Environment and Natural Resources Division.

[FR Doc. 00-24603 Filed 9-25-00; 8:45 am]

BILLING CODE 4410-15-M